DEPARTMENT OF THE TREASURY

Office of Foreign Assets Control

Sanctions Actions Pursuant to Executive Orders 13382, 13572, 13573, 13582, and 13608

AGENCY: Office of Foreign Assets Control, Treasury Department.

ACTION: Notice.

SUMMARY: The Treasury Department's Office of Foreign Assets Control (OFAC) is publishing the names of 37 persons whose property and interests in property are blocked pursuant to one or more of the following authorities: Executive Order (E.O.) 13382, E.O. 13572, E.O. 13573, and E.O. 13582. OFAC is also publishing the names of six persons upon which measures have also been imposed pursuant to E.O. 13608.

DATES: OFAC's actions described in this notice were effective December 17, 2014, October 16, 2014, July 9, 2014, and May 8, 2014, as further specified below.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). Certain general information pertaining to OFAC's sanctions programs is also available via facsimile through a 24-hour fax-on-demand service, tel.: 202/622-0077.

Notice of OFAC Actions

On December 17, 2014, OFAC blocked the property and interests in property of the following 11 persons pursuant to E.O. 13582, “Blocking Property of the Government of Syria and Prohibiting Certain Transactions with Respect to Syria”:

Individuals

1. ABDULKARIM, Wael (a.k.a. ABDULKARIM, Mohammad Wael), Dubai, United Arab Emirates; DOB 1973; POB Damascus, Syria; nationality Syria; Managing Director, Pangates International Corp. Ltd.; General Manager, Pangates International Corp. Ltd.; Director, Abdulkarim Group (individual) [SYRIA] (Linked To: PANGATES INTERNATIONAL CORPORATION LIMITED; Linked To: ABDULKARIM GROUP)

2. BARQAWI, Ahmad (a.k.a. AL-BARQAWI, Ahmad; a.k.a. BARQAWI, Ahmad Abed Allah; a.k.a. BARQAWI, Ahmad Abedallah; a.k.a. BARQAWI, Ahmed; a.k.a. “BARQAWI, Hamodeh”), Dubai, United Arab Emirates; DOB 1985; POB Damascus, Syria; General Manager, Pangates International Corp. Ltd.; General Manager, Maxima Middle East Trading Co. (individual) [SYRIA] (Linked To: PANGATES INTERNATIONAL CORPORATION LIMITED; Linked To: MAXIMA MIDDLE EAST TRADING CO.)

3. BEKTAS, Halis; DOB 13 Feb 1966; citizen Switzerland; Passport X0906223 (Switzerland) (individual) [SYRIA] [FSE-SY]

4. HOLLEBRAND, Alexander (a.k.a. HOLLEBRAND, Sander); DOB 20 Dec 1954; POB Netherlands (individual) [SYRIA] [FSE-SY]

5. VAN MAZIJK, Paul; DOB 24 Jan 1958; Passport NSK7K05F4 (Netherlands) (individual) [SYRIA] [FSE-SY]

Entities

1. ABDULKARIM GROUP (a.k.a. ABD-AL-KARIM GROUP; a.k.a. ALKARIM FOR TRADE & INDUSTRY L.L.C.; a.k.a. ALKARIM FOR TRADE AND INDUSTRY; a.k.a. MOHD. WAEL ABDULKARIM & PARTNERS CO.; a.k.a. WAEL ABDULKARIM AND PARTNERS), Abu Rumaneh, Ibn Al Haytham St., Besides Indian Embassy, Building No. 7, 1st Floor, Office No. 5, Damascus, Syria; Jaber Bin Hayan St. No. 162, Akkad & Sufi Bldg No. 1, 1st Floor, Damascus, Syria; P.O. Box 5797, Damascus, Syria; P.O. Box 30693, Damascus, Syria; Adra-Tal El Kordi Triangle PC, Damascus 30693, Syria; Riyad El Solh Street, Beirut 12347, Lebanon; Web site abdulkarimgroup.com [SYRIA] (Linked To: PANGATES INTERNATIONAL CORPORATION LIMITED)

2. BLUEMARINE SA (a.k.a. BLUE MARINE SHIPPING AGENCY S.A.; a.k.a. BLUEMARINE AG; a.k.a. BLUEMARINE LTD), Lindenstrasse 2, Baar 6340, Switzerland [SYRIA] [FSE-SY]

3. MAXIMA MIDDLE EAST TRADING CO., P.O. Box 122925, Sharjah Airport International Free Zone, SAIF Lounge, Sharjah, United Arab Emirates; Suite 13, First Floor Oliaji Trade Centre, Francis Rachel Street, Victoria, Mahe, Seychelles [SYRIA] (Linked To: ABDULKARIM GROUP; Linked To: PANGATES INTERNATIONAL CORPORATION LIMITED)

4. RIXO INTERNATIONAL TRADING LTD., Lindenstrasse 2, Baar 6340, Switzerland; Web site http://www.rixointernational.com [SYRIA] [FSE-SY]

5. SKIRRON HOLDING SA (a.k.a. SKIRRON HOLDING AG), Lindenstrasse 2, Baar 6340, Switzerland [SYRIA]

6. STAROIL B.V. (a.k.a. STAROIL S.A.), Wilhelminastraat 43 A, Haarlem 2011 VK, Netherlands; 30 A Rte de Chene, Geneva 1208, Switzerland; Registration ID 819860578 (Netherlands); V.A.T. Number NL 819860578B01 (Netherlands); Commercial Registry Number 34311024 (Netherlands) [SYRIA] [FSE-SY]

Also on December 17, 2014, OFAC prohibited all transactions or dealings, whether direct or indirect, involving the following six persons, including any exporting, reexporting, importing, selling, purchasing, transporting, swapping, brokering, approving, financing, facilitating or guaranteeing, in or related to any (i) goods, services, or technology in or intended for the United States, or (ii) any goods, services, or technology provided by or to United States persons, wherever located, pursuant to E.O. 13608, “Prohibiting Certain Transactions With and Suspending Entry Into the United States of Foreign Sanctions Evaders With Respect to Iran and Syria”:

Individuals

1. BEKTAS, Halis; DOB 13 Feb 1966; citizen Switzerland; Passport X0906223 (Switzerland) (individual) [SYRIA] [FSE-SY]

2. HOLLEBRAND, Alexander (a.k.a. HOLLEBRAND, Sander); DOB 20 Dec 1954; POB Netherlands (individual) [SYRIA] [FSE-SY]

3. VAN MAZIJK, Paul; DOB 24 Jan 1958; Passport NSK7K05F4 (Netherlands) (individual) [SYRIA] [FSE-SY]

Entities

1. BLUEMARINE SA (a.k.a. BLUE MARINE SHIPPING AGENCY S.A.; a.k.a. BLUEMARINE AG; a.k.a. BLUEMARINE LTD), Lindenstrasse 2, Baar 6340, Switzerland [SYRIA] [FSE-SY]

2. RIXO INTERNATIONAL TRADING LTD., Lindenstrasse 2, Baar 6340, Switzerland; Web site http://www.rixointernational.com [SYRIA] [FSE-SY]

3. STAROIL B.V. (a.k.a. STAROIL S.A.), Wilhelminastraat 43 A, Haarlem 2011 VK, Netherlands; 30 A Rte de Chene, Geneva 1208, Switzerland; Registration ID 819860578 (Netherlands); V.A.T. Number NL 819860578B01 (Netherlands); Commercial Registry Number 34311024 (Netherlands) [SYRIA] [FSE-SY]

On October 16, 2014, OFAC blocked the property and interests in property of the following six persons pursuant to E.O. 13582, “Blocking Property of the Government of Syria and Prohibiting Certain Transactions with Respect to Syria”:

Individuals

1. DAGHER, Jad (a.k.a. DAGHER, Jade Adel), Dagher Building, 3rd Floor, Bikfaya, Metn, Lebanon; DOB 1976; nationality Lebanon; General Manager at DK Middle-East & Africa Regional Office (individual) [SYRIA] (Linked To: DK GROUP SARL)

2. AL-ZEYDI, Issa (a.k.a. AL-ZAYDI, Issa); DOB 07 Feb 1939; POB Russia; nationality Russia; Passport 63N9437545 (Russia) (individual) [SYRIA]

3. IOANNOU, Ioannis; DOB 29 Nov 1954; POB Cyprus; nationality Cyprus; Passport E386670 (Cyprus); Identification Number 502128 (Cyprus) (individual) [SYRIA]

Entities

1. DK GROUP SARL (a.k.a. DK GROUP; a.k.a. DK MIDDLE-EAST & AFRICA REGIONAL OFFICE), Peres Lazaristes Center, No 3, 5th Floor, Emir Bachir Street, Beirut Central District, Bachoura Sector, Beirut, Lebanon; Azarieh Building—Block 03, 5th Floor, Azarieh Street—Solidere—Downtown, P.O. Box 11-503, Beirut, Lebanon; Web site http://www.dk-group.biz; Registration ID 2004405 (Lebanon) [SYRIA]

2. FRUMINETI INVESTMENTS LTD., Logothetou, 1, Germasogeia, Limassol 4043, Cyprus; Registration ID HE 291043 [SYRIA]

3. PIRUSETI ENTERPRISES LTD, 1 Logothetou Street, Nicosia 4034, Cyprus; 118 Anexartisias Street, Suite 202, Limassol 3040, Cyprus; Logothetou 1, Germasogeia, Limassol, Cyprus; Registration ID C290894; alt. Registration ID HE 290894 [SYRIA]

Also on October 16, 2014, OFAC identified four persons whose property and interests in property are blocked pursuant to E.O. 13582, “Blocking Property of the Government of Syria and Prohibiting Certain Transactions with Respect to Syria”:

Entities

1. AGRICULTURAL COOPERATIVE BANK (a.k.a. AL MASRAF AL ZERAEI AL TAWENI; a.k.a. “ACB”), Al Naanaa Garden, Damascus, Syria; Postal Box 4325, Damascus, Syria; Tall, Damascus, Syria; Doma, Doma, Syria; Zabadani, Damascus, Syria; Katana, Damascus, Syria; Al Qatifa, Damascus, Syria; Nabek, Damascus, Syria; Yabrood, Damascus, Syria; Daria, Damascus, Syria; Alksoaa, Damascus, Syria; Al Qounaitra, Syria; Deraa, Syria; Azraa, Syria; Alsnmin, Syria; Gazallah, Syria; Nawa, Syria; Sweida, Syria; Shahba, Sweida, Syria; Salkhad, Sweida, Syria; Algaria, Sweida, Syria; Homs, Syria; Talkah, Homs, Syria; Tadmer, Homs, Syria; Al Rastan, Homs, Syria; Al Qasser, Homs, Syria; Shin, Homs, Syria; Agricultural Cooperative Bank Building, Damascus Tajhez, 4325, Damascus, Syria; Web site www.agrobank.gov.sy [SYRIA]

2. INDUSTRIAL BANK, Dar Al Muhanisen Building, 7th Floor, Maysaloun Street, P.O. Box 7572, Damascus, Syria; P.O. Box 7578, 29 Maysaloun Street, Damascus, Syria; Jamal Abd Al Nasser Street, Al Hasaka, Syria; P.O. Box 50, Masarif Building, Sweida, Syria; Near the Big Mosque, Aleppo, Syria; Hama, Syria; Ibn Kholdoun Street, Homs, Syria; P.O. Box 8, Jules Jamal Street, Deraa, Syria; P.O. Box 2359, 29 Ayaar Street, Damascus, Syria; P.O. Box 25069, Harbaka, Damascus, Syria; P.O. Box 10, Rif Dimashq, Daraya, Damascus, Syria; P.O. Box 82, Rif Dimashq, Yabrood, Damascus, Syria; Web site www.industrialbank.gov.sy [SYRIA]

3. POPULAR CREDIT BANK (a.k.a. “PCB”), Dar El-Mohandeseen- Mysaloun St., P.O. Box: 2841, Damascus, Syria; P.O. Box 2841, Maysaloun Street, Damascus, Syria; Dar Al Mouhandseen Building, 6th Floor, Maysaloun Street, Dar Al Mohandessin Area, Damascus 2841, Syria [SYRIA]

4. SAVING BANK (a.k.a. SAVINGS BANK; f.k.a. THE GENERAL ESTABLISHMENT OF MAIL SAVING FUND; f.k.a. THE POST SAVING FUND), Amous Square, Damascus, Syria; P.O. Box: 5467, Al-Furat St., Merjeh, Damascus, Syria [SYRIA]

Also on October 16, 2014, OFAC blocked the property and interests in property of the following two persons pursuant to E.O. 13573, “Blocking Property of Senior Officials of the Government of Syria”:

Individuals

1. ORFALI, Khodr (a.k.a. ORPHALI, Khedr; a.k.a. ORPHALY, Khodr; a.k.a. ORPHALY, Khudr; a.k.a. URFALI, Khudr); DOB 1956; POB Deir Ezzor, Syria; Minister of Economy and Foreign Trade (individual) [SYRIA]

2. TU'MA, Kamal Eddin (a.k.a. TOUMA, Kamal Eddin; a.k.a. TU'MA, Kamal Al-Din); DOB 1959; POB Damascus, Syria; Minister of Industry (individual) [SYRIA]

Also on October 16, 2014, OFAC blocked the property and interests in property of the following person pursuant to E.O. 13572, “Blocking Property of Certain Persons With Respect to Human Rights Abuses in Syria”:

Individual

1. MIHOUB, Qusay (a.k.a. MAHYUB, Qusay); DOB 1960; Brigadier General (individual) [SYRIA].

On July 9, 2014, OFAC blocked the property and interests in property of the following person pursuant to E.O. 13582, “Blocking Property of the Government of Syria and Prohibiting Certain Transactions with Respect to Syria”:

Entity

1. PANGATES INTERNATIONAL CORPORATION LIMITED, P.O. Box 8177, Sharjah Airport International Free Zone, Sharjah, United Arab Emirates; Office Y-47, Sharjah Airport International Free Zone, Sharjah, United Arab Emirates; P.O. Box 5797, Damascus, Syria; Web site www.pangates-me.com; Email Address info@pangates-me.com; alt. Email Address pangates@emirates.net.ae [SYRIA]

Also on July 9, 2014, OFAC blocked the property and interests in property of the following two persons pursuant to E.O. 13382, “Blocking Property of Weapons of Mass Destruction Proliferators and Their Supporters”:

Entities

1. EXPERT PARTNERS (a.k.a. EXPERTS PARTNERS), Rukn Addin, Saladin Street, Building 5, PO Box 7006, Damascus, Syria [NPWMD]

2. MEGATRADE, Aleppo Street, PO Box 5966, Damascus, Syria [NPWMD]

On May 8, 2014, OFAC blocked the property and interests in property of the following six persons pursuant to E.O. 13573, “Blocking Property of Senior Officials of the Government of Syria”:

Individuals

1. AL-HASSAN, Bassam (a.k.a. HASAN, Basam; a.k.a. HASAN, Bassam; a.k.a. HASSAN, Bassam); DOB 1961; alt. DOB 1960; alt. DOB 1962; POB Homs, Syria; Brigadier General and Syrian Presidential Advisor (individual) [SYRIA]

2. AL-QADRI, Ahmad; DOB 1956; POB Hasaka, Syria; Minister of Agriculture and Agrarian Reform (individual) [SYRIA]

3. AL-SHAMMAT, Kinda; DOB 1973; POB Damascus, Syria; Minister of Social Affairs (individual) [SYRIA]

4. ARNOUS, Hussein; DOB 1953; POB Idleb, Syria; Minister of Public Works (individual) [SYRIA]

5. HIJAZI, Hassan; DOB 1964; POB Quneitra, Syria; Minister of Labor (individual) [SYRIA]

6. ISMAEL, Ismael; DOB 1955; Minister of Finance (individual) [SYRIA]

Also on May 8, 2014, OFAC identified two persons whose property and interests in property are blocked pursuant to E.O. 13582, “Blocking Property of the Government of Syria and Prohibiting Certain Transactions with Respect to Syria”:

Entities

1. BANIAS REFINERY COMPANY, Banias Refinery Building, 26 Latkia Main Road, Baniyas, Tartous, Syria; Banias Refinery Building, Latkia Main Road, Banias Industrial Area, Banias, Tartous, Syria; Postal Box 26, Tartous, Syria; P.O. Box 26, Banias, Syria [SYRIA]

2. HOMS REFINERY COMPANY (a.k.a. GENERAL COMPANY FOR HOMS REFINERY), General Company for Homs Refinery Building, 352 Tripoli Street, Homs, Syria; P.O. Box 352, Trablus (Tripoli) Street, Homs, Syria; Postal Box 352, Homs, Syria [SYRIA]

Also on May 8, 2014, OFAC blocked the property and interests in property of the following two persons pursuant to E.O. 13582, “Blocking Property of the Government of Syria and Prohibiting Certain Transactions with Respect to Syria”:

Entity

1. TEMPBANK (a.k.a. MAB TEMPBANK OAO; a.k.a. MOSCOW JOINT-STOK BANK TEMPBANK OPEN JOINT-STOCK COMPANY; a.k.a. OTKRYTOE AKTSIONERNOE OBSHCHESTVO MOSKOVSKI AKTSIONERNY BANK TEMPBANK), 36/50 Lyusinovskaya ul., Moscow 115093, Russia; SWIFT/BIC TMJSRUMM; Web site www.tempbank.ru; Email Address info@tempbank.ru; Registration ID 1027739270294; Telephone No. 7495 6764060; Fax No. 7495 6761178 [SYRIA]

Individual

1. GAGLOEV, Mikhail Georgievich (a.k.a. GAGLOYEV, Mikhail Georgiyevich); DOB 17 Feb 1966; citizen Russia; Chairman of Management Committee of Tempbank (individual) [SYRIA]

Dated: February 13, 2015.
John Smith,
Acting Director, Office of Foreign Assets Control.

[FR Doc. 2015-05396 Filed 3-6-15; 8:45 am]

BILLING CODE 4810-AL-P